DEPARTMENT OF JUSTICE

Antitrust Division

Notice Pursuant to the National Cooperative Research and Production Act of 1993—The ATM Forum

Notice is hereby given that, on December 29, 2000, pursuant to section 6(a) of the National Cooperative Research and Production Act of 1993, 15 U.S.C. 4301 et seq. (“the Act”), The ATM Forum has filed written notifications simultaneously with the Attorney General and the Federal Trade Commission disclosing changes in its membership status. The notifications were filed for the purpose of extending the Act's provisions limiting the recovery of antitrust plaintiffs to actual damages under specified circumstances. Specifically, Biodata, Lictenfels, Germany; Polycom, Palo Alto, CA; Symbiont Networks, Inc., Fairfax, VA; MobilCOM City Line GmbH, Buedelsodorf, Germany; ViaSat, Carlsbad, CA; and Ericsson France, Massy Cedex, France have been added as parties to this venture. The following members have changed their names: Wavetek Wandel Golterman to ACTERENA, Eningen, Germany; Beacon Networks, Inc. to Pelago Networks, Marlborough, MA; Silicon Automation Systems to Sasken Communication Technologies, Inc., Bangalore, India; CoreEl MicroSystems, Inc. to Paxonet, Fremont, CA; LG Information & Communications Ltd. to LG Electronics, Inc., Seoul, Republic of Korea; and Syskonnect to Syskonnect GmBH, Ettlingen, Germany. The following auditing member merged with another subsidiary of their parent company: Ericsson into Ericsson France, Massy Cedex, France. Also, The ATM Forum worldwide headquarters address has changed from Mountain View, CA to St. Louis, MO.

No other changes have been made in either the membership or planned activity of the group research project. Membership in this group research project remains open, and The ATM Forum intends to file additional written notification disclosing all changes in membership.

On April 19, 1993, The ATM Forum filed its original notification pursuant to section 6(a) of the Act. The Department of Justice published a notice in the Federal Register pursuant to section 6(b) of the Act on June 2, 1993 (58 FR 31415).

The last notification was filed with the Department on September 29, 2000. A notice was published in the Federal Register pursuant to section 6(b) of the Act on November 24, 2000 (65 FR 70611).

Constance K. Robinson,
Director of Operations, Antitrust Division.

[FR Doc. 01-4704 Filed 2-26-01; 8:45 am]

BILLING CODE 4410-11-M